COMMITTEE FOR PURCHASE FROM PEOPLE WHO ARE BLIND OR SEVERELY DISABLED

Procurement List; Additions and Deletions

AGENCY: Committee for Purchase From People Who Are Blind or Severely Disabled.

ACTION: Additions to and deletions from the procurement list.

SUMMARY: This action adds service(s) to the Procurement List that will be furnished by nonprofit agencies employing persons who are blind or have other severe disabilities and deletes product(s) and service(s) from the Procurement List previously furnished by such agencies.

DATES: Date added to the Procurement List: September 15, 2021; Date deleted from the Procurement List: September 26, 2021.

ADDRESSES: Committee for Purchase From People Who Are Blind or Severely Disabled, 1401 S. Clark Street, Suite 715, Arlington, Virginia, 22202-4149.

FOR FURTHER INFORMATION CONTACT: Michael R. Jurkowski, Telephone: (703) 785-6404, or email CMTEFedReg@AbilityOne.gov.

SUPPLEMENTARY INFORMATION:

Additions

On 5/7/2021 the Committee for Purchase From People Who Are Blind or Severely Disabled published notice of proposed additions to the Procurement List. This notice is published pursuant to 41 U.S.C. 8503 (a)(2) and 41 CFR 51-2.3.

After consideration of the material presented to it concerning capability of qualified nonprofit agencies to provide the service(s) and impact of the additions on the current or most recent contractors, the Committee has determined that the service(s) listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping, or other compliance requirements for small entities other than the small organizations that will furnish the service(s) to the Government.

2. The action will result in authorizing small entities to furnish the service(s) to the Government.

3. There are no known regulatory alternatives which would accomplish the objectives of the Javits-Wagner-O'Day Act (41 U.S.C. 8501-8506) in connection with the product(s) and service(s) proposed for addition to the Procurement List.

End of Certification

Accordingly, the following service(s) are added to the Procurement List:

Service(s)

Service Type: Mailroom, Courier, and Copy Center Service

Mandatory for: Consumer Financial Protection Bureau, Washington, DC

Designated Source of Supply: NewView Oklahoma, Inc., Oklahoma City, OK

Contracting Activity: CONSUMER FINANCIAL PROTECTION BUREAU, CONSUMER FINANCE PROTECTION BUREAU

The Committee finds good cause to dispense with the 30-day delay in the effective date normally required by the Administrative Procedure Act. See 5 U.S.C. 553(d). This addition to the Committee's Procurement List is effectuated because of the expiration of the Consumer Financial Protection Bureau contract. The Federal customer contacted and has worked diligently with the AbilityOne Program to fulfill this service need under the AbilityOne Program. To avoid performance disruption, and the possibility that the Consumer Financial Protection Bureau will refer its business elsewhere, this addition must be effective on September 14, 2021, ensuring timely execution for a September 15, 2021, start date while still allowing 19 days for comment. Pursuant to its own regulation 41 CFR 51-2.4, the Committee has been in contact with one of the affected parties, the incumbent of the expiring contract, since June 2020 and determined that no severe adverse impact exists. The Committee also published a notice of proposed Procurement List addition in the Federal Register on May 7, 2021 and did not receive any comments from any interested persons, including from the incumbent contractor. This addition will not create a public hardship and has limited effect on the public at large, but, rather, will create new jobs for other affected parties—people with significant disabilities in the AbilityOne program who otherwise face challenges locating employment. Moreover, this addition will enable Federal customer operations to continue without interruption.

Deletions

On 7/23/2021 the Committee for Purchase From People Who Are Blind or Severely Disabled published notice of proposed deletions from the Procurement List. This notice is published pursuant to 41 U.S.C. 8503 (a)(2) and 41 CFR 51-2.3.

After consideration of the relevant matter presented, the Committee has determined that the product(s) and service(s) listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the product(s) and service(s) to the Government.

3. There are no known regulatory alternatives which would accomplish the objectives of the Javits-Wagner-O'Day Act (41 U.S.C. 8501-8506) in connection with the product(s) and service(s) deleted from the Procurement List.

End of Certification

Accordingly, the following product(s) and service(s) are deleted from the Procurement List:

Product(s)

NSN(s)—Product Name(s):

7510-01-600-7582—Monthly Wall Calendar, Dated 2021, Jan-Dec, 8½″ x 11″

7510-01-600-7630—Wall Calendar, Dated 2021, Wire Bound w/Hanger, 12″ x 17″

7510-01-600-7575—Wall Calendar, Dated 2021, Wire Bound w/hanger, 15.5″ x 22″

7510-01-682-8098—Wall Calendar, Recycled, Dated 2021, Vertical, 3 Months, 12¼″ x 26″

7530-01-600-7617—Weekly Planner Book, Dated 2021, 5″ x 8″, Black

7530-01-600-7590—Daily Desk Planner, Dated 2021, Wire bound, Non-refillable, Black Cover

7530-01-600-7597—Monthly Desk Planner, Dated 2021, Wire Bound, Non-refillable, Black Cover

7530-01-600-7601—Weekly Desk Planner, Dated 2021, Wire Bound, Non-refillable, Black Cover

7510-01-682-8110—Professional Planner, Dated 2021, Recycled, Weekly, Black, 8½″ x 11″

7510-01-682-8091—Monthly Planner, Recycled, Dated 2021, 14-month, 6⅞″ x 8¾″

Designated Source of Supply: Chicago Lighthouse Industries, Chicago, IL

Contracting Activity: GSA/FAS ADMIN SVCS ACQUISITION BR(2, NEW YORK, NY

NSN(s)—Product Name(s):

7510-01-600-8027—Dated 2021 12-Month 2-Sided Laminated Wall Planner, 24″ x 37″

Designated Source of Supply: Chicago Lighthouse Industries, Chicago, IL

Contracting Activity: GSA/FAS FURNITURE SYSTEMS MGT DIV, PHILADELPHIA, PA

NSN(s)—Product Name(s):

7520-01-622-7156—Portable Desktop Clipboard with Calculator, 10″ W x 2⅗″ D x 16″ H, Army Green

Designated Source of Suppl: LC Industries, Inc., Durham, NC

Contracting Activity: GSA/FAS ADMIN SVCS ACQUISITION BR(2, NEW YORK, NY

NSN(s)—Product Name(s):

7520-01-587-9633—Pen, Ballpoint, Retractable, 3 Pack, Black, Medium Point

7520-01-587-9650—Pen, Ballpoint, Retractable, Hybrid Ink, 6 Pack, Assorted, Medium Point

7520-01-484-5259—Pen, Ball Point, Retractable, Ergonomic, MD Executive Grip, Burgundy Barrel, Black Ink, Medium Point

7520-01-484-5255—Pen, Ball Point, Retractable, Ergonomic, MD Ergo Grip, Burgundy Barrel, Black Ink, Medium Point

Designated Source of Supply: Industries for the Blind and Visually Impaired, Inc., West Allis, WI

Contracting Activity: GSA/FAS ADMIN SVCS ACQUISITION BR(2, NEW YORK, NY

NSN(s)—Product Name(s):

7510-01-579-9322—Binder, Removable Slant-D Rings, 100% Recyclable, Turned Edge, Dark Green, 3″ Capacity, Letter

Designated Source of Supply: South Texas Lighthouse for the Blind, Corpus Christi, TX

Contracting Activity: STRATEGIC ACQUISITION CENTER, FREDERICKSBURG, VA

NSN(s)—Product Name(s):

7510-01-579-9322—Binder, Removable Slant-D Rings, 100% Recyclable, Turned Edge, Dark Green, 3″ Capacity, Letter

Designated Source of Supply: South Texas Lighthouse for the Blind, Corpus Christi, TX

Contracting Activity: GSA/FAS ADMIN SVCS ACQUISITION BR(2, NEW YORK, NY

NSN(s)—Product Name(s):

7930-00-NIB-0720—Dust Remover, Compressed Gas, 10 oz.

Designated Source of Supply: The Lighthouse for the Blind, St. Louis, MO

Contracting Activity: GSA/FSS GREATER SOUTHWEST ACQUISITI, FORT WORTH, TX

NSN(s)—Product Name(s):

8465-01-519-6132—Load Lifter Attachment Strap, MOLLE Components, Desert Camouflage

8465-01-524-7241—Load Lifter Attachment Strap, MOLLE Components, Universal Camouflage

8465-01-580-1666—Load Lifter Attachment Strap, MOLLE Components, OEFCP

Contracting Activity: DLA TROOP SUPPORT, PHILADELPHIA, PA

NSN(s)—Product Name(s):

8465-01-580-1666—Load Lifter Attachment Strap, MOLLE Components, OEFCP

Contracting Activity: W6QK ACC-APG NATICK, NATICK, MA

NSN(s)—Product Name(s):

8455-01-113-0061—Qualification Badge, Basic Expert, U. S. Army

Designated Source of Supply: Fontana Resources at Work, Fontana, CA

Contracting Activity: DLA TROOP SUPPORT, PHILADELPHIA, PA

NSN(s)—Product Name(s):

6640-00-165-5778—Kit, Urine Specimen Bottles With Mailers

Designated Source of Supply: Alphapointe, Kansas City, MO

Contracting Activity: DLA TROOP SUPPORT, PHILADELPHIA, PA

Service(s)

Service Type: Sourcing, Warehousing, Assembly and Kitting

Mandatory for: Army National Guard Recruiting and Retention Command, Nashville, TN, Houston Barracks, Nashville, TN

Designated Source of Supply: Industries for the Blind and Visually Impaired, Inc., West Allis, WI

Contracting Activity: DEPT OF THE ARMY, W7N1 USPFO ACTIVITY TN ARNG

Service Type: Furniture Design and Configuration Services

Mandatory for: Maine National Guard, Augusta, ME, 194 Winthrop Street, Augusta, ME

Designated Source of Supply: Industries for the Blind and Visually Impaired, Inc., West Allis, WI

Contracting Activity: DEPT OF THE ARMY, W7NC USPFO ACTIVITY ME ARNG

Michael R. Jurkowski,
Acting Director, Business Operation.

[FR Doc. 2021-18495 Filed 8-26-21; 8:45 am]

BILLING CODE 6353-01-P